DEPARTMENT OF THE TREASURY

Office of Thrift Supervision

[AC-63: OTS Nos. H-4781, H-4116, H-4118, and 17983]

Naugatuck Valley Financial Corporation, Naugatuck, CT; Approval of Conversion Application

Notice is hereby given that on May 13, 2011, the Office of Thrift Supervision approved the application of Naugatuck Valley Mutual Holding Company, Naugatuck, Connecticut, the Federal mutual holding company for the Naugatuck Valley Savings and Loan, Naugatuck, Connecticut, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, New Jersey 07311.

Dated: May 16, 2011.
By the Office of Thrift Supervision.
Sandra E. Evans,
Federal Register Liaison.

[FR Doc. 2011-12352 Filed 5-19-11; 8:45 am]

BILLING CODE 6720-01-M